DEPARTMENT OF HOUSING AND URBAN DEVELOPMENT

[Docket No. FR-5419-FA-01]

Announcement of Funding Awards for the Brownfields Economic Development Initiative (BEDI) Program for Fiscal Year 2009 Second Competition

AGENCY: Office of the Assistant Secretary for Community Planning and Development, HUD.

ACTION: Announcement of funding awards.

SUMMARY: In accordance with Section 102(a)(4)(C) of the Department of Housing and Urban Development Reform Act of 1989, this announcement notifies the public of funding decisions made by the Department in a competition for funding under the Second Round Fiscal Year (FY) 2009 Notice of Funding Availability (NOFA) for the Brownfield Economic Development Initiative (BEDI) program. This announcement contains the names of the awardees and the amounts of the awards made available by HUD.

FOR FURTHER INFORMATION CONTACT: David Kaminsky, Office of Economic Development Grants Management Division, Office of Community Planning and Development, Department of Housing and Urban Development, 451 Seventh Street, SW; Washington, DC 20410-7000; telephone number 202-402-4612 (this is not a toll-free number). Hearing- and speech-impaired persons may access this number via TTY by calling the Federal Relay Service toll-free at 800-877-8339. For general information on this and other HUD programs, call Community Connections at 800-998-9999 or visit the HUD Web site at http://www.hud.gov.

SUPPLEMENTARY INFORMATION: HUD's BEDI program provides Federal support to CDBG entitlement and non-entitlement units of general local government to enhance the security of loan guaranteed by HUD under Section 108 of the Housing and Community Development Act of 1974, (42 U.S.C. 5308(q)), as amended, for the same brownfields economic development project, or to improve the viability of a brownfields economic development project financed with the Section 108-guaranteed loan, in order to stimulate economic development by local governments and private sector parties at brownfields sites and to return those sites to productive economic use.

On June 4, 2010, (FR-5419-N-01) HUD published a NOFA announcing the availability of approximately $8,100,000 in FY 2009 Second Round funds for the BEDI program. The Department reviewed, evaluated and scored the applications received based on the criteria in the SuperNOFA. As a result, HUD funded the applications announced below, and, in accordance with section 102(a)(4)(C) of the Department of Housing and Urban Development Reform Act of 1989 (103 Stat. 1987, U.S.C. 3545), the Department is publishing details concerning the recipients of funding awards, as set forth in Appendix A to this Notice. Information regarding the awardees' project descriptions is posted at http://www.hud.gov/offices/cpd/economicdevelopment/programs/bedi/funding09/fy2009bedi_2.pdf and is incorporated in this Notice.

Dated: January 20, 2012.
Valerie Piper,
Deputy Assistant Secretary for Economic Development.

APPENDIX A FISCAL YEAR 2009 SECOND ROUND FUNDING AWARDS FOR THE BROWNFIELDS ECONOMIC DEVELOPMENT INITIATIVE PROGRAM

Memphis, TN | $2,000,000
Philadelphia, PA | 2,000,000
Port Huron, MI | 1,000,000
Reading, PA | 750,000
Total | 5,750,000

[FR Doc. 2012-2250 Filed 1-31-12; 8:45 am]

BILLING CODE 4210-67-P